DEPARTMENT OF ENERGY

Federal Energy Regulatory Commission

Combined Notice of Filings #1

December 29, 2009.

Take notice that the Commission received the following electric rate filings:

Docket Numbers: ER08-912-009; ER05-365-022.

Applicants: Elk River Windfarm LLC, Iberdrola Renewables, Inc.

Description: Iberdrola Renewables, Inc et al. submit Original Sheet 1 to FERC Electric Tariff, Third Revised Volume 1.

Filed Date: 12/23/2009.

Accession Number: 20091224-0069.

Comment Date: 5 p.m. Eastern Time on Wednesday, January 13, 2010.

Docket Numbers: ER10-403-001.

Applicants: Covanta Plymouth Renewable Energy Limited.

Description: Covanta Plymouth Renewable Energy Limited Partnership submits Notice of Cancellation of its Rate Schedule FERC No. 2.

Filed Date: 12/23/2009.

Accession Number: 20091224-0068.

Comment Date: 5 p.m. Eastern Time on Wednesday, January 13, 2010.

Docket Numbers: ER10-495-000.

Applicants: Midwest Independent Transmission System Operator, Inc.

Description: Midwest Independent Transmission System Operator, Inc submits an unexecuted Amended and Restated Large Generator Interconnection Agreement among the Midwest ISO et al.

Filed Date: 12/23/2009.

Accession Number: 20091224-0066.

Comment Date: 5 p.m. Eastern Time on Wednesday, January 13, 2010.

Docket Numbers: ER10-496-000.

Applicants: Southwest Power Pool, Inc.

Description: Southwest Power Pool, Inc submits an executed Large Generator Interconnection Agreement with Grand River Dam Authority etc.

Filed Date: 12/23/2009.

Accession Number: 20091224-0067.

Comment Date: 5 p.m. Eastern Time on Wednesday, January 13, 2010.

Docket Numbers: ER10-498-000.

Applicants: Central Maine Power Company.

Description: Central Maine Power Company submits executed Engineering and Procurement Agreement with Highland Wind LLC.

Filed Date: 12/24/2009.

Accession Number: 20091228-0023.

Comment Date: 5 p.m. Eastern Time on Thursday, January 14, 2010.

Docket Numbers: ER10-499-000.

Applicants: Central Maine Power Company.

Description: Central Maine Power submits executed Engineering and Procurement Agreement with Patriot Renewables, LLC.

Filed Date: 12/24/2009.

Accession Number: 20091228-0020.

Comment Date: 5 p.m. Eastern Time on Thursday, January 14, 2010.

Docket Numbers: ER10-500-000.

Applicants: California Independent System Operator Corporation.

Description: California Independent System Operator Corporation submits an amendment to its tariff.

Filed Date: 12/24/2009.

Accession Number: 20091228-0021.

Comment Date: 5 p.m. Eastern Time on Thursday, January 14, 2010.

Docket Numbers: ER10-502-000.

Applicants: Westar Energy, Inc.

Description: Westar Energy, Inc submits an executed Participation Power Agreement dated 10/19/09, between Westar and the Kansas Power Pool.

Filed Date: 12/24/2009.

Accession Number: 20091228-0024.

Comment Date: 5 p.m. Eastern Time on Thursday, January 14, 2010.

Docket Numbers: ER10-503-000.

Applicants: VERMONT ELECTRIC COOPERATIVE INC.

Description: Motion for Limited Waiver of VERMONT ELECTRIC COOPERATIVE, INC.

Filed Date: 12/23/2009.

Accession Number: 20091223-5160.

Comment Date: 5 p.m. Eastern Time on Wednesday, January 13, 2010.

Take notice that the Commission received the following electric reliability filings.

Docket Numbers: RD10-8-000.

Applicants: North American Electric Reliability Corporation.

Description: Petition of the North American Electric Reliability Corporation for Approval of Interpretations to Reliability Standard CIP-006-2, Physical Security of Critical Cyber Assets, Requirements R1.1 and R4 etc.

Filed Date: 12/22/2009.

Accession Number: 20091222-5280.

Comment Date: 5 p.m. Eastern Time on Thursday, January 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-31354 Filed 1-4-10; 8:45 am]

BILLING CODE 6717-01-P